DEPARTMENT OF TRANSPORTATION

Office of the Secretary

Notice of Applications for Certificates of Public Convenience and Necessity and Foreign Air Carrier Permits Filed Under Subpart B (Formerly Subpart Q) During the Week Ending August 6, 2004

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-18841.

Date Filed: August 4, 2004.

Due Date for Answers, Conforming Applications, or Motion to Modify Scope: August 25, 2004.

Description: Application of Village Aviation, Inc. d/b/a Village Air Cargo, requesting an amendment of its certificate of public convenience and necessity to remove a condition in its certificate limiting its operations to those conducted within the State of Alaska.

Docket Number: OST-2004-18862.

Date Filed: August 6, 2004.

Due Date for Answers, Conforming Applications, or Motion to Modify Scope: August 27, 2004.

Description: Application of Scott Aviation, Inc. requesting a certificate of public convenience and necessity to engage in interstate charter air transportation of persons, property, and mail.

Andrea M. Jenkins,
Program Manager, Docket Operations, Federal Register Liaison.

[FR Doc. 04-18901 Filed 8-17-04; 8:45 am]

BILLING CODE 4910-62-P